DEPARTMENT OF TRANSPORTATION

Federal Aviation Administration

14 CFR Part 39

[Docket No. 2001-CE-09-AD; Amendment 39-12502; AD 2001-23-05]

RIN 2120-AA64

Airworthiness Directives; SOCATA—Groupe Aerospatiale Models TB 9, TB 10, TB 20, TB 21, and TB 200 Airplanes

AGENCY: Federal Aviation Administration, DOT.

ACTION: Final rule.

SUMMARY: This amendment adopts a new airworthiness directive (AD) that applies to all SOCATA—Groupe Aerospatiale (SOCATA) Models TB 9, TB 10, TB 20, TB 21, and TB 200 airplanes that do not have factory Modification 165, any edition, incorporated on the front seats. This AD requires you to modify the front seats that have solid metal seat pans. This AD is the result of mandatory continuing airworthiness information (MCAI) issued by the airworthiness authority for France. The actions specified by this AD are intended to eliminate the potential for the front seats to inadvertently unlock from their fixed positions. Such uncontrolled movement could prevent the pilot from making the necessary flight maneuvers to control the airplane.

DATES: This AD becomes effective on January 4, 2002.

The Director of the Federal Register approved the incorporation by reference of certain publications listed in the regulations as of January 4, 2002.

ADDRESSES: You may get the service information referenced in this AD from SOCATA Groupe Aerospatiale, Customer Support, Aerodrome Tarbes-Ossun-Lourdes, BP 930—F65009 Tarbes Cedex, France; telephone: 011 33 5 62 41 73 00; facsimile: 011 33 5 62 41 76 54; or the Product Support Manager, SOCATA—Groupe Aerospatiale, North Perry Airport, 7501 Pembroke Road, Pembroke Pines, Florida 33023; telephone: (954) 894-1160; facsimile: (954) 964-4191. You may view this information at the Federal Aviation Administration (FAA), Central Region, Office of the Regional Counsel, Attention: Rules Docket No. 2001-CE-09-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Direction Générale de l'Aviation Civile (DGAC), which is the airworthiness authority for France, recently notified FAA that an unsafe condition may exist on all SOCATA Models TB 9, TB 10, TB 20, TB 21, and TB 200 airplanes that do not have factory Modification 165 incorporated on the front seats. The DGAC reports cases where the seat pan interfered with the front seat locking mechanism. Interference with the seat locking mechanism could result in uncontrolled movement of the front seats.

This condition does not affect airplanes with factory Modification 165, any edition, incorporated. This modification consists of cutting a slot in the solid metal seat pan to eliminate the interference.

Has FAA taken any action to this point? We issued a proposal to amend part 39 of the Federal Aviation Regulations (14 CFR part 39) to include an AD that would apply to all SOCATA—Groupe Aerospatiale (SOCATA) Models TB 9, TB 10, TB 20, TB 21, and TB 200 airplanes that do not have factory Modification 165, any edition, incorporated on the front seats. This proposal was published in the Federal Register as a notice of proposed rulemaking (NPRM) on August 24, 2001 (66 FR 44556). The NPRM proposed to require you to modify the front seat configuration.

What is the potential impact if FAA took no action? The actions specified by this AD are intended to eliminate the potential for the front seats to inadvertently unlock from their fixed positions. Such uncontrolled movement could prevent the pilot from making the necessary flight maneuvers to control the airplane.

Was the public invited to comment? The FAA encouraged interested persons to participate in the making of this amendment. The following presents the comments received on the proposal and FAA's response to each comment:

Comment Issue No. 1: Manufacturer Estimates 36 Aircraft in the U.S. Fleet Are Affected by the Proposed AD

What is the commenter's concern? The AD affects only certain models of seats; commenter estimates that 36 aircraft in the U.S. were affected by the AD. The commenter wants FAA to reflect this in the Cost Impact section.

What is FAA's response to the concern? The FAA agrees with the manufacturer that this initial estimate is correct. However, it is possible that owner/operators might have had modifications made to the aircraft later that make them subject to the AD. The FAA will note that this AD possibly affects 125 aircraft in the U.S. registry.

Comment Issue No. 2: FAA Better Identify Seats Affected by the AD

What is the commenter's concern? One commenter states that only seats with solid metal seat pans are affected by this AD; seats with a mesh seat pan are not affected. The commenter recommended that FAA make it clear in the AD what seats are affected.

What is FAA's response to the concern? The FAA agrees with the commenter and will clearly identify that only solid metal seat pans are affected by the AD.

FAA's Determination

What is FAA's final determination on this issue? We carefully reviewed all available information related to the subject presented above and determined that air safety and the public interest require the adoption of the rule as proposed except for the changes discussed above and minor editorial questions. We have determined that these changes and minor corrections:

—Provide the intent that was proposed in the NPRM for correcting the unsafe condition; and

—Do not add any additional burden upon the public than was already proposed in the NPRM.

Cost Impact

How many airplanes does this AD impact? We estimate that this AD possibly affects 125 airplanes in the U.S. registry. Of these 125 airplanes, 36 had the affected seats installed at the manufacturer. The other 89 airplanes could have had these seats installed since manufacture.

What is the cost impact of this AD on owners/operators of the affected airplanes? We estimate the following costs to accomplish the modification:

Labor cost | Parts cost | Total cost per airplane | Total cost on U.S. operators
5 workhours × $60 per hour = $300 | $58 ($29 per seat, 2 seats per airplane) | $358. | $358 × 125 = $44,750.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-23-05 SOCATA Groupe Aerospatiale: Amendment 39-12502; Docket No. 2001-CE-09-AD.

(a) What airplanes are affected by this AD? This AD affects Models TB 9, TB 10, TB 20, TB 21, and TB 200 airplanes, all serial numbers, that:

(1) Do not incorporate factory Modification 165, any edition. Modification 165 consists of cutting a slot in the solid metal seat pan to eliminate interference with the locking mechanism;

(2) are equipped with solid metal seat pans; and

(3) are certificated in any category.

(b) Who must comply with this AD? Anyone who wishes to operate any of the above airplanes must comply with this AD.

(c) What problem does this AD address? The actions specified by this AD are intended to eliminate the potential for the front seats to inadvertently unlock from their fixed positions. Such uncontrolled movement could prevent the pilot from making the necessary flight maneuvers to control the airplane.

(d) What actions must I accomplish to address this problem? To address this problem, you must accomplish the following:

Actions | Compliance | Procedures
(1) Modify the front seats that have solid metal seat pans. A seat that has a mesh seat pan is not affected and does not require modification | Within the next 100 hours time-in-service (TIS) after January 4, 2002 (the effective date of the AD) | In accordance with the Accomplishment Instructions section of SOCATA Service Bulletin SB 10-115 25, dated December 2000, and the applicable maintenance manual.
(2) Do not install any of the seats referenced in SOCATA Service Bulletin SB 10-115 25, dated December 2000 (or FAA-approved equivalent part numbers), without incorporating the modification required by paragraph (d)(1) of this AD | As of January 4, 2002 (the effective date of this AD) | In accordance with SOCATA Service Bulletin SB 10-115 25, dated December 2000.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with SOCATA Service Bulletin SB-10-115-25, dated December 2000. The Director of the Federal Register approved this incorporation by reference under 5 U.S.C. 552(a) and 1 CFR part 51. You can get copies from SOCATA Groupe AEROSPATIALE, Customer Support, Aerodrome Tarbes-Ossun-Lourdes, BP 930—F65009 Tarbes Cedex, France; or the Product Support Manager, SOCATA—Groupe AEROSPATIALE, North Perry Airport, 7501 Pembroke Road, Pembroke Pines, Florida 33023. You can look at copies at the FAA, Central Region, Office of the Regional Counsel, 901 Locust, Room 506, Kansas City, Missouri, or at the Office of the Federal Register, 800 North Capitol Street, NW., suite 700, Washington, DC.

(i) When does this amendment become effective? This amendment becomes effective on January 4, 2002.

Note 2: The subject of this AD is addressed in French AD 2001-005(A), dated January 10, 2001.

Issued in Kansas City, Missouri, on November 5, 2001.
Michael Gallagher,
Manager, Small Airplane Directorate, Aircraft Certification Service.

[FR Doc. 01-28419 Filed 11-16-01; 8:45 am]

BILLING CODE 4910-13-P